DEPARTMENT OF THE INTERIOR

Bureau of Land Management

[UT-912-02-1120-PG-24-1A]

Utah Statewide Resource Advisory Council Meeting

AGENCY: Bureau of Land Management, Department of Interior.

ACTION: Notice of Utah Resource Advisory Council Meeting.

SUMMARY: The Bureau of Land Management's Utah Statewide Resource Advisory Council will conduct a meeting December 18, 2001, from 8 a.m. until 5 p.m, at the Salt Lake Plaza Hotel, 122 West South Temple, Salt Lake City, Utah.

Primary agenda items for this meeting will include an orientation for new members and an overview of management strategies to increase consistency and clarity regarding the management of raptors and associated habitats on BLM lands within the state. A panel, whose members represent the state, industry, wildlife interests, and BLM, will also speak on their perspectives of raptor issues and the complexity in dealing with development on public lands.

A public comment period is scheduled from 4:15 p.m.-4:45 p.m. where members of the public may address the Council. Written comments may be mailed to the Bureau of Land Management at the address listed below. All meetings are open to the public; however, transportation, lodging, and meals are the responsibility of the participating public.

FOR FURTHER INFORMATION CONTACT: Sherry Foot, Special Programs Coordinator, Utah State Office, Bureau of Land Management, 324 South State Street, Salt Lake City, 84111; phone (801) 539-4195.

Dated: November 6, 2001.
Robert A. Bennett,
Associate State Director.

[FR Doc. 01-29380 Filed 11-23-01; 8:45 am]

BILLING CODE 4310-84-P